DEPARTMENT OF THE INTERIOR

Bureau of Land Management

[MTM-79374-01]

Notice of Application for Withdrawal Extension and Public Meeting, Crystal Park Recreation Area; Beaverhead County, MT

AGENCY: Bureau of Land Management, Interior.

ACTION: Notice of application.

SUMMARY: On behalf of the United States Department of Agriculture, the United States Forest Service (USFS) filed an application with the Bureau of Land Management (BLM) requesting the Secretary of the Interior extend Public Land Order (PLO) No. 6958 for an additional 30-year term. PLO No. 6958 withdrew 220 acres of National Forest System lands in Beaverhead County, Montana, from location and entry under the United States mining laws, subject to valid existing rights, to protect the USFS-managed recreation area. The lands remain open to leasing under the mineral leasing laws, and to such uses as may be made on National Forest System lands. The withdrawal created by PLO No. 6958 will expire on March 1, 2023, unless extended. This notice announces to the public an opportunity to comment on the proposal and announces the date, time, and how to access the virtual public meeting to be held in conjunction with this withdrawal extension application.

DATES: Comments must be received by January 12, 2023. Notice is hereby given that the USFS will hold a virtual public meeting in connection with the withdrawal extension application on November 7, 2022, at 6:30 p.m. The USFS will publish instructions on how to access the online public meeting in the Montana Standard newspaper a minimum of 30 days prior to the meeting.

ADDRESSES: All written comments should be sent to the Office of the Regional Forester, Region One, 26 Fort Missoula Road, Missoula, Montana 59804.

FOR FURTHER INFORMATION CONTACT: Will Pedde, Land Status Program Manager, USFS Region One, (406) 329-3204 or via email at will.pedde@usda.gov or you may contact the USFS office at the earlier address.

Individuals in the United States who are deaf, deafblind, hard of hearing, or have a speech disability may dial 711 (TTY, TDD, or Tele Braille) to access telecommunications relay services. Individuals outside the United States should use the relay services offered within their country to make international calls to the point-of-contact in the United States.

SUPPLEMENTARY INFORMATION: The USFS filed an application requesting extension of the withdrawal established by PLO No. 6958 (58 FR 11968). PLO No. 6958 withdrew 220 acres of National Forest System lands in Beaverhead County, Montana, from location and entry under the United States mining laws (30 U.S.C. Ch.2), but not from leasing under the mineral leasing laws, or entry under the general land laws, subject to valid existing rights, for a 30-year term. PLO No. 6958 is incorporated herein by reference.

The purpose of the proposed extension is to preserve and protect the existing recreational opportunities, facilities, and capital improvements from locatable mineral development of the Crystal Park Recreation Area through the year 2053.

The use of a rights-of-way, interagency agreement, or cooperative agreement would not provide adequate protection for this site.

There are no suitable alternative sites available which would facilitate public opportunity for this type of recreation experience.

No water rights will be needed to fulfill the purpose of the requested withdrawal.

All interested persons who wish to submit comments, suggestions, or objections in connection with the withdrawal extension application may submit a written request to the Regional Forester by January 12, 2023, at the address in the ADDRESSES section earlier.

Comments, including names and street addresses of respondents, will be available for public review at Region One, 26 Fort Missoula Road, Missoula, Montana 59804, during regular business hours.

Before including your address, phone number, email address, or other personal identifying information in your comment, be advised that your entire comment—including your personal identifying information—may be made publicly available at any time. While you may ask the BLM in your comment to withhold from your personal identifying information from the public review, we cannot guarantee that we will be able to do so.

This application will be processed in accordance with the regulations set-forth in 43 CFR 2310.4.

Sonya Germann,
State Director.

[FR Doc. 2022-22398 Filed 10-13-22; 8:45 am]

BILLING CODE 3411-15-P